DEPARTMENT OF THE INTERIOR

Geological Survey

[GX24MR00G6ZW800; OMB Control Number 1028-NEW]

Agency Information Collection Activities; Submission to the Office of Management and Budget for Review and Approval; Panhandle Terrapin Project

AGENCY: U.S. Geological Survey, Department of the Interior.

ACTION: Notice of information collection; request for comment.

SUMMARY: In accordance with the Paperwork Reduction Act (PRA) of 1995, the U.S. Geological Survey (USGS) is proposing a new information collection.

DATES: Interested persons are invited to submit comments on or before November 14, 2024.

ADDRESSES: Written comments and recommendations for the proposed information collection request (ICR) should be sent within 30 days of publication of this notice to www.reginfo.gov/public/do/PRAMain. Find this particular ICR by selecting “Currently under Review—Open for Public Comments” or by using the search function. Please provide a copy of your comments by mail to USGS Wetland and Aquatic Research Center, 7920 NW 73rd St., Gainesville, FL 32653; or by email to Margaret Lamont (mlamont@usgs.gov). Please reference OMB Control Number 1028-NEW—Panhandle Terrapin Project in the subject line of your comments.

FOR FURTHER INFORMATION CONTACT: Margaret Lamont by email at mlamont@usgs.gov, or by telephone at 352-209-4306. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 8, 2024 (89 FR 8706). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: Diamondback terrapins are the only brackish water turtles in the United States. These turtles inhabit coastal marshes and mangroves from Massachusetts to Texas. Most terrapin populations are in decline due to commercial harvest, incidental capture in crab traps, and loss of nesting habitat due to coastal development. Today, the illegal pet trade has added extra pressure to these already declining populations. While much is known about terrapins along the US Atlantic coast, very little information is available about terrapin populations that inhabit Florida's northwest coast. In fact, the International Union for the Conservation of Nature (IUCN) does not include Northwest Florida within the terrapins' range, however recent studies confirm that terrapins do inhabit the region. This project would use citizen scientists to conduct surveys in potential terrapin habitat throughout the Northwest Florida region to document terrapins and terrapin signs, including hatched eggs and crawls. Volunteers collect detailed information on when and where terrapins or their signs are observed, environmental parameters such as air temperature and weather during the observation, habitat information such as vegetation type at the observation site, level and type of human activities observed at the site, and data on the terrapins or their signs such as number of tracks, nests, eggs or individual terrapins observed. Managers, including state and National Parks, need this information to document species' status and inform conservation decisions, including whether to list or de-list species.

The authority for this collection is 43 U.S.C. 31 et seq. The Organic Act of March 3, 1879.

Title of Collection: Panhandle Terrapin Project.

OMB Control Number: 1028-NEW.

Form Number: None.

Type of Review: New.

Respondents/Affected Public: Individuals; county, State and Federal government employees.

Total Estimated Number of Annual Respondents: 100.

Total Estimated Number of Annual Responses: 1,000.

Estimated Completion Time per Response: 3 minutes.

Total Estimated Number of Annual Burden Hours: 50 hours.

Respondent's Obligation: Voluntary.

Frequency of Collection: Weekly from April through October each year.

Total Estimated Annual Nonhour Burden Cost: None.

An agency may not conduct or sponsor, nor is a person is required to respond to a collection of information unless it displays a currently valid OMB control number.

The authority for this action is the PRA of 1995 (44 U.S.C. 3501 et seq.).

Deborah Epperson,
Deputy Center Director, Wetland and Aquatic Research Center, Southeast Region.

[FR Doc. 2024-23700 Filed 10-11-24; 8:45 am]

BILLING CODE 4338-11-P